DEPARTMENT OF ENERGY

Federal Energy Regulatory Commission

[Docket No. EL21-67-000]

Kentucky Municipal Energy Agency; Notice of Request for Partial Waiver

Take notice that on April 8, 2021, pursuant to section 292.402 of the Federal Energy Regulatory Commission's (Commission) regulations, 18 CFR 292.402, Kentucky Municipal Energy Agency (KYMEA), on behalf of itself and its authorizing member municipal electric utilities,¹ submitted a request for partial waiver of certain obligations imposed on KYMEA and its authorizing Members through the Commission's regulations ² implementing Section 210 of the Public Utility Regulatory Policies Act of 1978, as amended (PURPA),³ as more fully explained in the request.

¹ The authorizing Members are: Barbourville Utility Commission of the City of Barbourville, Kentucky; City of Bardwell, Kentucky; Cities Utilities Commission of the City of Corbin, Kentucky; Electric and Water Plant Board of the City of Frankfort, Kentucky; City of Falmouth, Kentucky; City of Madisonville, Kentucky; City of Paris, Kentucky; and City of Providence, Kentucky.

² 18 CFR 292.303(a) and .303(b).

³ 16 U.S.C. 824a-3.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant.

In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov or call toll-free, (886) 208-3676 or TYY, (202) 502-8659.

The Commission strongly encourages electronic filings of comments, protests and interventions in lieu of paper using the “eFiling” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

Comment Date: 5:00 p.m. Eastern time on April 30, 2021.

Dated: April 13, 2021.
Kimberly D. Bose,
Secretary.

[FR Doc. 2021-08124 Filed 4-20-21; 8:45 am]

BILLING CODE 6717-01-P